DEPARTMENT OF TRANSPORTATION

Federal Aviation Administration

Notice of Meeting

AGENCY: Federal Aviation Administration (FAA) DOT.

ACTION: Notice.

SUMMARY: This notice announces the first meeting of the FAA Aircraft Repair and Maintenance Advisory Committee. The purpose of the meeting is to establish the Committee's specific goals and objective pursuant to its congressional mandates and determine the tasking and final product of the committee.

DATES: The meeting will be held June 12, 2001, 8 a.m. to 4:30 p.m.

ADDRESSES: The meeting will be held at the Federal Aviation Administration, 800 Independence Ave., SW., Bessie Coleman Conference Center, Washington, DC 20591.

FOR FURTHER INFORMATION CONTACT: Ellen Bowie, Federal Aviation Administration (AFS-340), 800 Independence Avenue, SW., Washington, DC 20591; phone (202) 267-9952; fax (202) 267-5115; e-mail: Ellen.Bowie@faa.gov.

SUPPLEMENTARY INFORMATION: Pursuant to section 10(a)(2) of the Federal Advisory Committee Act (Pub. L. 92-463; 5 U.S.C. App. II), notice is hereby given of a meeting of the FAA Aircraft Repair and Maintenance Advisory Committee to be held on June 12, at the Federal Aviation Administration, 800 Independence Avenue, SW., Bessie Coleman Conference Center, Washington, DC 20591. The agenda will include:

• Welcome and Introductions—Angela Elgee, Executive Director.

• Remarks by Secretary Norman Mineta.

• Selection of Committee Chairman and Assistant Committee Chairman.

• Review of Committee's Congressional Mandate.

• Discussion on Committee Goals and Objectives Relative to the Congressional Mandate.

• Identification of Maintenance and Repair Station Issues Relative to Congressional Mandate.

• Identification of Future Committee Tasks.

• Discussion on Working Groups and Assignment of Tasks to Working Groups.

• Scheduled Statements or Presentations by Member of the Public.

• Discussion on Future Meeting Dates.

• Closing Remarks and Adjournment.

Attendance is open to the public but will be limited to the availability of meeting room space. Please contact Ms. Ellen Bowie at the number listed above if you plan to attend the meeting or to present a verbal statement.

Requests to present a verbal statement must include a written summary of remarks. Please focus your remarks on the tasks, specific activities, projects or goals of the Advisory Committee, and benefits to the aviation public. Speakers will be limited to 5 minute presentations. Send written requests to Ellen Bowie, AFS-340, Federal Aviation Administration, 800 Independence Avenue, Washington, DC 20591.

Individuals making verbal presentations at the meeting should bring 25 copies to give to the Committee's Executive Director. Copies may be provided to the audience at the discretion of the submitter.

Dated: Issued in Washington, DC on May 8, 2001.
Angela B. Elgee,
Executive Director.

[FR Doc. 01-12111 Filed 5-14-01; 8:45 am]

BILLING CODE 4910-13-M